DEPARTMENT OF DEFENSE

Office of the Secretary

Defense Intelligence Agency National Intelligence University Board of Visitors Closed Meeting

AGENCY: National Intelligence University, Defense Intelligence Agency, Department of Defense.

ACTION: Notice of closed meeting.

SUMMARY: Pursuant to the provisions of Subsection (d) of Section 10 of Public Law 92-463, as amended by section 5 of Public Law 94-409, notice is hereby given that a closed meeting of the National Intelligence University Board of Visitors has been scheduled as follows:

DATES: Tuesday, January 8, 2013 (8 a.m. to 5 p.m.) and Wednesday, January 9, 2013 (8 a.m. to 12 p.m.).

ADDRESSES: National Intelligence University, Washington, DC 20340-5100.

FOR FURTHER INFORMATION CONTACT: Dr. David R. Ellison, President, DIA National Intelligence University, Washington, DC 20340-5100 (202) 231-3344.

SUPPLEMENTARY INFORMATION: The entire meeting is devoted to the discussion of classified information as defined in Section 552b (c) (1), Title 5 of the U.S. Code and therefore will be closed. The Board will discuss several current critical intelligence issues and advise the Director, DIA, as to the successful accomplishment of the mission assigned to the National Intelligence University.

Due to difficulties, beyond the control of the National Intelligence University Board of Visitors or its Designated Federal Officer, the Board was unable to file a Federal Register notice for the January 8 through January 9, 2013 meeting of the National Intelligence University Board of Visitors as required by 41 CFR 102-3.150(a). Accordingly, the Advisory Committee Management Officer for the Department of Defense, pursuant to 41 CFR 102-3.150(b), waives the 15-calendar day notification requirement.

Dated: December 27, 2012.
Aaron Siegel,
Alternate OSD Federal Register Liaison Officer, Department of Defense.

[FR Doc. 2012-31529 Filed 12-31-12; 8:45 am]

BILLING CODE 5001-06-P